DEPARTMENT OF HOMELAND SECURITY

Office of the Secretary

Senior Executive Service Performance Review Board

AGENCY: Office of the Secretary, DHS.

ACTION: Notice.

SUMMARY: This notice announces the appointment of the members of the Senior Executive Service Performance Review Boards for the Department of Homeland Security. The purpose of the Performance Review Board is to view and make recommendations concerning proposed performance appraisals, ratings, bonuses, pay adjustments, and other appropriate personnel actions for incumbents of Senior Executive Service positions of the Department.

DATES: Effective Dates: This Notice is effective October 10, 2006.

FOR FURTHER INFORMATION CONTACT: Carmen Arrowood, Office of the Chief Human Capital Office, telephone (202) 357-8348.

SUPPLEMENTARY INFORMATION: Each federal agency is required to establish one or more performance review boards (PRB) to make recommendations, as necessary, in regard to the performance of senior executives within the agency. 5 U.S.C. 4314(c). This notice announces the appointment of the members of the PRB for the Department of Homeland Security (DHS). The purpose of the PRB is to review and make recommendations concerning proposed performance appraisals, ratings, bonuses, pay adjustments, and other appropriate personnel actions for incumbents of SES positions within DHS.

The Board shall consist of at least three members. In the case of an appraisal of a career appointee, more than half of the members shall consist of career appointees. Composition of the specific PRBs will be determined on an ad hoc basis from among the individuals listed below:

Adamoli, Joseph

Aguilar, David G.

Ahern, Jayson P.

Allen, Charles E.

Arcos, Cresencio

Armstrong, Charles R.

Atwood, Cynthia J.

Aytes, Michael L.

Baldwin, William D.

Barth, Richard

Basham, W. Ralph

Bathurst, Donald G.

Beardsworth, Richard

Bergman, Cynthia

Bester-Markowitz, Margot

Bond, Debra J.

Boudreaux, Chad

Bowen, Bruce J.

Boyd, David G.

Brown, Dana A.

Buckingham, Patricia Ann

Buikema, Edward G.

Burhoe, Scott J. RDML

Byers, Robert F.

Carpenter, Dea

Caputo, Guy P.

Caverly, R. James

Chaparro, James M.

Charbo, L. Scott

Cooper, Bradford E.

Daitch, William

D'Araujo, John R.

Dayton, Mark R.

Dickinson, Charles

Difalco, Frank

DiGregorio, Elizabeth L.

Dinanno, Thomas G.

Dooher, John C.

Duke, Elaine C.

Dunham, Carol A.

Dunlap, James L.

Dunne, Julie A.

Essig, Thomas W.

Fagerholm, Eric N.

Falk, Scott

Faust, James

Flynn, William F.

Fonash, Peter M.

Forman, Marcy. M.

Hagan, William

Hall, Michael J.

Hanneld, Michael R.

Hardie, Sharon L.

Heffelfinger, William

Hill, Marcus L.

Hoelscher, Doug

Hooks, Robert R.

Hosenfeld, Robert W.

Howell, David R.

Gabbrielli, Tina W.

Giddens, Gregory

Gowadia, Huban

Grupski, Thomas F.

Irving, Paul D.

James, Ronald J.

Jamieson, Gil H.

Justice, Wayne E. RDML

Keene, Delma K.

Kent, Donald

Kerner, Francine

Kish, James R.

Koerner, Timothy J.

Kostelnik, Michael C.

Kraninger, Kathleen L.

Lang, Gary J.

Lederer, Calvin

Levy, Andrew

Lockwood, Thomas J.

Lumsden, Sheila M.

MacDonald, John R.

Maher, Joseph B.

Martinez-Fonts, Alfonso

McCarthy, Maureen I.

McCormack, Luke J.

McDermond, James E.

McGowan, Morris

Mitchell, Andrew T.

Mocny, Robert

Morris, Earl R.

Nagel, Brian K.

Nichols, Frederick A.

Nimmich, Joseph L. RDML

O'Melinn, Barry C.

Onieal, Denis G.

Oxford, Vayl

Paar, Thomas C.

Parent, Wayne

Parker, Robert C. RDML

Patrick, Connie L.

Pearson, Clifford, I. RADM

Peavy, Sandra H.

Pekoske, David P. RADM

Perez, Marta Brito

Personette, Donald B.

Philbin, Patrick

Pierson, Julia A.

Powell, Donald E.

Prewitt, Keith L.

Reichel, Howard

Reingold, Susan B.

Robles, Alfonso

Rogers, George D.

Rosenzweig, Paul

Rossides, Gale D.

Rufe, Roger

Runge, Jeffrey W.

Russell, Michael D.

Schied, Eugene H.

Schwien, Fred

Sexton, Eugenio O.

Shuback, Susan J.

Shingler, Wendell C.

Sposato, Janis A.

Stahlschmidt, Patricia K.

Stenger, Michael C.

Stephan, Robert

Sullivan, Daniel

Tomarchio, Jack T.

Tomsheck, James F.

Torrence, Donald

Torres, John P.

Trissell, David A.

Vanacore, Michael J.

Walker, Carmen H.

Walters, Thomas J.

Wheelbarger, Kathryn

Whitford, Richard A.

Williams, Dwight

Wood, John F.

Wright, Phlemon T.

Zitz, Robert

This notice does not constitute a significant regulatory action under section 3(f) of Executive Order 12866. Therefore, DHS has not submitted this notice to the Office of Management and Budget. Further, because this notice is a matter of agency organization, procedure and practice, DHS is not required to follow the rulemaking requirements under the Administrative Procedure Act (5 U.S.C. 553).

Dated: October 2, 2006.
Thomas Vieira,
Director, Executive Resources, Office of the Chief Human Capital Office.

[FR Doc. E6-16673 Filed 10-6-06; 8:45 am]

BILLING CODE 4410-10-P